DEPARTMENT OF HOMELAND SECURITY

Coast Guard

[Docket No. USCG-2015-0031]

Missouri River Waterways Analysis and Management System

AGENCY: Coast Guard, DHS.

ACTION: Notice of meeting and request for comments.

SUMMARY: Coast Guard Sector Upper Mississippi River will hold a public listening session to present, and receive feedback on, the Missouri River Waterways Analysis and Management System (WAMS) study. The WAMS study will review and assess waterborne commerce as well as safe commercial and recreational navigation with a focus on the existing aids to navigation in Missouri River system from Sioux City, IA to St. Louis, MO. This listening session will be open to the public.

DATES: This listening session will be held in Smithville, MO on February 25, 2015, from 10:00 a.m. to 12:00 p.m. If all interested participants have had an opportunity to comment, the session may conclude early. Written comments and related material may also be presented to Coast Guard personnel specified at that meeting. Comments and related materials submitted after the meeting must be received by the Coast Guard on or before April 10, 2015.

ADDRESSES: The listening session will be held at the Jerry Litton Visitors Center, (Smithville Lake) 16311 DD Hwy., Smithville, MO 64089.

Submit written comments identified by docket number USCG-2015-0031 using one of the listed methods, and see SUPPLEMENTARY INFORMATION for more information on public comments. To avoid duplication, please use only one of these methods.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document call or email Kevin Brensinger, Coast Guard; telephone 314-269-2548, email SUMRWaterways@uscg.mil. For information about viewing or submitting material to the docket, call Cheryl Collins, Program Manager, Docket Operations, telephone 202-366-9826, toll free 1-800-647-5527.

SUPPLEMENTARY INFORMATION:

Public Participation and Comments

We encourage you to participate in this listening session by submitting comments (or related material) on Missouri River Waterways Analysis and Management System study.

We recommend using the user survey document under docket number USCG-2015-0031 to provide comments. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, may be found in our online docket at http://www.regulations.gov and can be viewed by following the Web site's instructions. You can also view the docket at the Docket Management Facility (see the mailing address under ADDRESSES) between 9 a.m. and 5 p.m., Monday through Friday, except Federal holidays.

For information on facilities or services for individuals with disabilities or to request special assistance at the listening session, contact Kevin Brensinger at the telephone number or email address indicated under the FOR FURTHER INFORMATION CONTACT section of this notice.

Basis and Purpose

The Waterways Analysis and Management System was implemented to ensure a complete and organized process for matching waterway attributes and services, most significantly the aids to navigation system, with user needs. The Missouri River study includes navigable waters from Sioux City, IA to St. Louis, MO and specifically targets the navigation channel, marking of the navigation channel, movement of commerce and navigation support for the diverse uses of the river. WAMS studies are conducted periodically to better understand users' needs and facilitate safe and effective waterways. Some of the aspects addressed by WAMS are:

• Are all the aids necessary?

• Should aids be added, changed or removed?

• Is the right aid being used for the job?

• Are the aids marked in a correct and visible manner?

• Are these aids being used properly by both the Coast Guard and the waterway users?

It is the intent of Coast Guard Sector Upper Mississippi River to collect comments and materials from this listening session, along with navigation surveys and other information, to establish and preserve the reasonable needs of navigation on this river.

This notice is issued under authority of 5 U.S.C. 552(a).

Dated: February 6, 2015.
Martin Malloy,
Commander, U.S. Coast Guard Sector Upper Mississippi River, Captain of the Port.

[FR Doc. 2015-05486 Filed 3-6-15; 8:45 am]

BILLING CODE 9110-04-P